FEDERAL RESERVE SYSTEM

Change in Bank Control Notices; Formations of, Acquisitions by, and Mergers of Bank Holding Companies; Correction

This notice corrects a notice (FR Doc. 2014-08456) published on page 21246 of the issue for Tuesday, April 15, 2014.

Under the Federal Reserve Bank of Kansas City heading, the entry for The TFLH Financial Services Trust, with Frank Harrel, LaTricia Harrel, Kalee Harrel, all of Leedey, Oklahoma, and Brent Harrel, Elk City, Oklahoma, as trustees, to become part of the Harrel Family control group, and Brent Harrel as trustee of a voting trust agreement, is revised to read as follows:

A. Federal Reserve Bank of Kansas City (Dennis Denney, Assistant Vice President) 1 Memorial Drive, Kansas City, Missouri 64198-0001:

1. The FLH Financial Services Trust, Leedey, Oklahoma; and its trustees: Frank Harrel, LaTricia Harrel, both of Leedey, Oklahoma, Brent Harrel, Elk City, Oklahoma, and Kalee Carpenter, Leedey, Oklahoma; to become part of the Harrel Family control group, and Brent Harrel as trustee of the voting agreement, to acquire voting shares of Western Oklahoma Bancshares, and thereby indirectly acquire voting shares of Bank of Western Oklahoma, both in Elk City, Oklahoma.

Comments on this application must be received by April 30, 2014.

Board of Governors of the Federal Reserve System, April 15, 2014.
Michael J. Lewandowski,
Associate Secretary of the Board.

[FR Doc. 2014-08888 Filed 4-17-14; 8:45 am]

BILLING CODE 6210-01-P